ENVIRONMENTAL PROTECTION AGENCY

[FRL 8767-01-R3]

Clean Water Act: No-Discharge Zones for Vessel Sewage in Maryland and Virginia; Correction

AGENCY: Environmental Protection Agency (EPA).

ACTION: Notice—final determination; correction.

SUMMARY: The Environmental Protection Agency (EPA) is correcting a notice of final determination published on May 11, 2021. EPA determined that adequate facilities for the safe and sanitary removal and treatment of sewage from all vessels were reasonably available to support the State's prohibition of vessel sewage discharges in thirteen waterbodies in Anne Arundel County, Maryland, but has since identified errors in the geographic coordinates that correspond to the boundaries of the no-discharge zones as described in the earlier notice. This notice simply corrects those geographic coordinate errors; it does not otherwise change EPA's May 11, 2021 final determination.

DATES: This correction is effective on September 13, 2021.

FOR FURTHER INFORMATION CONTACT: Ferry Akbar Buchanan, U.S. Environmental Protection Agency—Region III. Telephone: (215) 814-2570; email address: AkbarBuchanan.Ferry@epa.gov.

SUPPLEMENTARY INFORMATION: On May 11, 2021 (86 FR 25856), EPA published a notice of final determination, “Clean Water Act: No-Discharge Zones for Vessel Sewage in Maryland and Virginia.” The notice explained EPA's determination that adequate facilities for the safe and sanitary removal and treatment of sewage from all vessels are reasonably available for the thirteen waterbodies located in Anne Arundel County for which Maryland sought to establish a no-discharge zone for vessel sewage under Clean Water Act section 312(f)(3). The document also provided one of the geographic coordinates from an existing no-discharge zone for Perrin River, Virginia, published at 85 FR 59796 on September 23, 2020.

Need for Correction

As published, the notice of the final determination misidentified the geographic coordinates of the no-discharge zone boundaries for Bodkin Creek, Magothy and Little Magothy Rivers, Podickory Creek, Sandy Point/Mezick Pond, Severn River, Fishing Creek, and South River waterbodies. The notice explained these boundaries in narrative terms; the earlier-published geographic coordinates did not correspond to the narrative descriptions of the boundaries for which EPA made the determination. Upon identifying the errors, EPA confirmed the correct geographic coordinates with Maryland. EPA finds that there is good cause to make this correction without prior notice and opportunity to comment on the basis that notice and comment is unnecessary and would not be in the public interest. The change merely conforms numeric geographic coordinates to the clear narrative descriptions and detailed maps of the no-discharge zone boundaries that were included in Maryland's application and upon which EPA's approval was based. As such, this correction does not alter EPA's earlier determination. EPA further determines that good cause exists to make the change effective upon publication, rather than delay the effective date, because the narrative boundary descriptions are clear, rendering a delayed effective date unnecessary. In addition, public interest requires prompt confirmation of the correct numeric geographic coordinates further describing the no-discharge zone boundaries.

Correction to Previously Published Table

In the Federal Register of May 11, 2021 (86 FR 25856), in FR Doc. 2021-09957, the information identifying the no discharge zone waterbodies and boundaries, in the first untitled table that begins with “Waterbody Limits” column, which appears on pages 25856 through 25857, is corrected to read as follows:

Waterbody | Waterbody/Limits | Area (acres)
Stony Creek | 39.1723° N, 76.5171° W to 39.1725° N, 76.5126° W | 677
Rock Creek | 39.1614° N, 76.5004° W to 39.1625° N, 76.4862° W | 524
South Shore, Patapsco River | 39.1472° N, 76.4589° W to 39.1471° N, 76.4588° W | 2
Bodkin Creek | 39.1346° N, 76.4398° W to 39.1320° N, 76.4384° W | 609
Magothy and Little Magothy Rivers | 39.0592° N, 76.4332° W to 39.0462° N, 76.4295° W | 5,879
Podickory Creek | 39.0328° N, 76.4040° W to 39.0318° N, 76.4049° W | 9
Sandy Point/Mezick Ponds | 39.0087° N, 76.4032° W to 39.0086° N, 76.4037° W | 47
Whitehall Bay | 38.9748° N, 76.4547° W to 38.9871° N, 76.4268° W | 1,599
Severn River | 38.9747° N, 76.4547° W to 38.9411° N, 76.4504° W | 7,497
Oyster Creek | 38.9274° N, 76.4638° W to 38.9273° N, 76.4634° W | 34
Fishing Creek | 38.9148° N, 76.4591° W to 38.9073° N, 76.4602° W | 228
South River | 38.9073° N, 76.4602° W to 38.8850° N, 76.4910° W | 5,904
West and Rhode Rivers | 38.8850° N, 76.4910° W to 38.8531° N, 76.4959° W | 4,370
Total Area |  | 27,379

Dated: September 2, 2021.
Diana Esher,
Acting Regional Administrator, EPA Region III.

[FR Doc. 2021-19601 Filed 9-10-21; 8:45 am]

BILLING CODE 6560-50-P